DEPARTMENT OF AGRICULTURE

Animal and Plant Health Inspection Service

9 CFR Part 78

[Docket No. APHIS-2011-0005]

Brucellosis in Swine; Add Texas to List of Validated Brucellosis-Free States

AGENCY: Animal and Plant Health Inspection Service, USDA.

ACTION: Affirmation of interim rule as final rule.

SUMMARY: We are adopting as a final rule, without change, an interim rule that amended the brucellosis regulations concerning the interstate movement of swine by adding Texas to the list of validated brucellosis-free States. The interim rule was necessary to relieve certain restrictions on interstate movement of breeding swine from Texas.

DATES: Effective on October 25, 2011, we are adopting as a final rule the interim rule published at 76 FR 28885-28886 on May 19, 2011.

FOR FURTHER INFORMATION CONTACT: Dr. Troy Bigelow, Swine Health Programs, Aquaculture, Swine, Equine, and Poultry Programs, National Center for Animal Health Programs, VS, APHIS, 210 Walnut Street Room 891, Des Moines, IA 50309; (515) 284-4121.

SUPPLEMENTARY INFORMATION:

Background

Brucellosis is a contagious disease caused by bacteria of the genus Brucella. The disease mainly affects cattle, bison, and swine, but goats, sheep, horses, and even humans are susceptible. In its principal animal hosts, it causes loss of young through spontaneous abortion or birth of weak offspring, reduced milk production, and infertility. There is no economically feasible treatment for brucellosis in livestock. In humans, brucellosis initially causes flu-like symptoms, but the disease may develop into a variety of chronic conditions, including arthritis. Humans can be treated for brucellosis with antibiotics.

In an interim rule ¹ effective and published in the Federal Register on May 19, 2011 (76 FR 28885-28886, Docket No. APHIS-2011-0005), we amended the brucellosis regulations in 9 CFR part 78 by adding Texas to the list of validated brucellosis-free States in § 78.43. That action relieved certain restrictions on the interstate movement of breeding swine from Texas.

¹ To view the interim rule and the comment we received, go to http://www.regulations.gov/#!docketDetail;D=APHIS-2011-0005.

Comments on the interim rule were required to be received on or before July 18, 2011. We received one comment by that date. The comment, from a State animal health agency, supported the interim rule. Therefore, for the reasons given in the interim rule, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 9 CFR Part 78

Animal diseases, Bison, Cattle, Hogs, Quarantine, Reporting and recordkeeping requirements, Transportation.

PART 78—BRUCELLOSIS

Accordingly, we are adopting as a final rule, without change, the interim rule that amended 9 CFR part 78 and that was published at 76 FR 28885-28886 on May 19, 2011.

Done in Washington, DC, this 19th day of October 2011.
Kevin Shea,
Acting Administrator, Animal and Plant Health Inspection Service.

[FR Doc. 2011-27572 Filed 10-24-11; 8:45 am]

BILLING CODE 3410-34-P